DEPARTMENT OF TRANSPORTATION

National Highway Traffic Safety Administration

[Docket No. NHTSA-2019-0063; Notice 1]

General Motors, LLC, Receipt of Petition for Decision of Inconsequential Noncompliance

AGENCY: National Highway Traffic Safety Administration (NHTSA), Department of Transportation (DOT).

ACTION: Receipt of petition.

SUMMARY: General Motors, LLC, (GM) has determined that certain model year (MY) 2010-2017 GMC Terrain motor vehicles do not fully comply with Federal Motor Vehicle Safety Standard (FMVSS) No. 108, Lamps, Reflective Devices, and Associated Equipment. GM filed a noncompliance report dated May 15, 2019. GM subsequently petitioned NHTSA on June 7, 2019, for a decision that the subject noncompliance is inconsequential as it relates to motor vehicle safety. This document announces receipt of GM's petition.

DATES: The closing date for comments on the petition is March 13, 2020.

ADDRESSES: Interested persons are invited to submit written data, views, and arguments on this petition. Comments must refer to the docket number and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

SUPPLEMENTARY INFORMATION:

I. Overview: GM has determined that certain MY 2010-2017 GMC Terrain motor vehicles do not fully comply with paragraph S10.15.6 and Table XIX of FMVSS No. 108, Lamps, Reflective Devices, and Associated Equipment (49 CFR 571.108). GM filed a noncompliance report dated May 15, 2019, pursuant to 49 CFR part 573, Defect and Noncompliance Responsibility and Reports. GM subsequently petitioned NHTSA on June 7, 2019, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of GM's petition, is published under 49 U.S.C. 30118 and 30120 and does not represent any agency decision or other exercises of judgment concerning the merits of the petition.

II. Equipment and Vehicles Involved: Approximately 726,959 MY 2010-2017 GMC Terrain motor vehicles manufactured between May 21, 2009 and July 13, 2017 are potentially involved.

III. Noncompliance: GM explains that the noncompliance is that the subject vehicles are equipped with lower beam headlamps that do not meet the photometry requirements of paragraph S10.15.6 and Table XIX of FMVSS No. 108. Specifically, a reflection from the headlamps' housing is directed 80 degrees outboard and 45 degrees upward, as measured from each lamp's optical axis, which dimly illuminates two small areas high above the vehicle. When tested, this reflection from a single point on each lamp burns at 450-470 cd, more than three times brighter than the designated maximum of 125 cd at test points 10° U to 90° U.

IV. Rule Requirements: Paragraph S10.15.6 and Table XIX of FMVSS No. 108 includes the requirements relevant to this petition. Each replaceable bulb headlamp must be designed to conform to the photometry requirements of Table XVIII for upper beam and Table XIX for lower beam as specified in Table II-d for the specific headlamp unit and aiming method, when tested according to the procedure of paragraph S14.2.5 using any replaceable light source designated for use in the system under test.

V. Summary of GM's Petition: GM described the subject noncompliance and stated its belief that the noncompliance is inconsequential as it relates to motor vehicle safety.

In support of its petition, GM submitted the following reasoning:

1. The refection has no effect on vehicle safety for oncoming or surrounding vehicles. The narrow reflection in question does not create a safety risk for oncoming or surrounding drivers, due to the extreme angle of the reflection. This angle, 80 degrees outboard and 45 degrees upward from each lamp's optical axis, is far above the range where the reflection could cause glare for oncoming or surrounding drivers, including the industry-recognized “glare points” referenced in Table XIX of FMVSS No. 108 at the following ranges: 0.5° U-1.5° L to L, i° U-1.5° L to L, 0.5° U-1° R to R, 1.5° U-° R to R.

2. The reflection has no effect on vehicle safety for drivers of the subject vehicles. The areas illuminated by the narrow reflections in question are not visible to drivers of the subject vehicles. These two small areas appear high above the vehicle, one to the far left and the other to the far right of the vehicle, well outside of the driver's view.

GM says, while these reflections may be somewhat perceptible in certain extremely dense fog or snow conditions, there would be no effect on vehicle safety due to the small size and far outboard location in the driver's peripheral field of view. Any detectable light would be negligible compared to other outside sources of illumination such as glare from oncoming traffic or fog glare forward of the vehicle from any FMVSS-compliant headlamp.

3. GM is aware of only a single customer inquiry associated with this condition, and is not aware of any crashes or injuries. GM reviewed all relevant field data and found just a single customer inquiry within the US and Canadian vehicle population of nearly 820,000 vehicles sold, 726,595 of which in the US and 92,747 in Canada, over eight model years. The customer stated, “Left head lamp seems to have a portion of the light that shines up in the trees at near a 45-degree angle.” GM identified no other related field reports, including in warranty, TREAD, VOQ, and legal data.

4. The headlamps comply with recognized industry standards. GM cited S6.1.1 of the SAE International Standard J1383, Performance Requirements for Motor Vehicle Headlamps (May 26, 2010), which sets forth certain industry-recognized intensity and size limits on headlamp photometrics. Specifically, for a zone extending 20° left to 20° right, and 10° to 60° up from the lamp optical axis, the light projected cannot exceed 550 candelas and cannot occupy more than five percent of the zone's total area. The reflection from the subject lamps is well outside of this zone. Even if the reflections were within this zone, the headlamps would remain compliant, as the reflection would not exceed the maximum of five percent of the total area or the maximum of 550 candelas.

5. The headlamps comply with applicable requirements for global regions, including UNECE R1123. S6.2.4 and Annex 3, Figure B of UNECE R112 specify photometric test points for the passing beam (i.e., lower beam headlamp). The photometric points extend to 4° above the lamp optical axis. The subject reflection is well above those test points.

6. The subject condition has been corrected for service parts and does not affect current-generation vehicles. GM is purging all affected service and replacement headlamps from dealer stock. Stanley has redesigned service and replacement headlamps to add graining to the inadvertent reflecting surfaces, which will prevent the reflections that are the cause of the issue. These redesigned lamps are expected to be available June 12, 2019. Current-generation GMC Terrain vehicles (model years 2018 and newer) use a different headlamp design and are not affected by this condition.

GM concluded that the subject noncompliance is inconsequential as it relates to motor vehicle safety, and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that GM no longer controlled at the time it determined that the noncompliance existed. However, any decision on this petition does not relieve vehicle distributors and dealers of the prohibitions on the sale, offer for sale, or introduction or delivery for introduction into interstate commerce of the noncompliant vehicles under their control after GM notified them that the subject noncompliance existed.

Authority: (49 U.S.C. 30118, 30120: delegations of authority at 49 CFR 1.95 and 501.8).

Otto G. Matheke III,
Director, Office of Vehicle Safety Compliance.

[FR Doc. 2020-02729 Filed 2-11-20; 8:45 am]

BILLING CODE 4910-59-P